DEPARTMENT OF COMMERCE

National Oceanic and Atmospheric Administration

Agency Information Collection Activities; Submission to the Office of Management and Budget (OMB) for Review and Approval; Comment Request; Alaska Region Scale & Catch Weighing Requirements

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 17, 2020.

ADDRESSES: Interested persons are invited to submit written comments to Adrienne Thomas, NOAA PRA Officer, at Adrienne.thomas@noaa.gov. Please reference OMB Control Number 0648-0330 in the subject line of your comments. Do not submit Confidential Business Information or otherwise sensitive or protected information.

FOR FURTHER INFORMATION CONTACT: Requests for additional information or specific questions related to collection activities should be directed to Gabrielle Aberle, 907-586-7228.

SUPPLEMENTARY INFORMATION:

I. Abstract

The National Marine Fisheries Services (NMFS), Alaska Regional Office, is requesting extension of the currently approved information collection for Alaska Region Scale & Catch Weighing Requirements.

The Magnuson-Stevens Fishery Conservation and Management Act, 16 U.S.C. 1801 et seq. (Magnuson-Stevens Act) authorizes the North Pacific Fishery Management Council to prepare and amend fishery management plans for any fishery in waters under its jurisdiction.

The At-Sea Scales Program was developed in response to the need for catch accounting methods that were more precise and verifiable at the level of the individual haul and less dependent on estimates generated by at-sea observers. This was necessary due to the implementation of large-scale catch share programs that required NMFS to provide verifiable and defensible estimates of quota harvest. Scale and catch-weighing monitoring is required for Western Alaska Community Development Quota Program (CDQ) catcher/processors (C/Ps), American Fisheries Act (AFA) C/Ps, AFA motherships, AFA shoreside processors and stationary floating processors, Central Gulf of Alaska Rockfish Program trawl C/Ps, non-AFA trawl C/Ps participating in Bering Sea and Aleutian Islands (BSAI) trawl fisheries, and longline C/Ps participating in BSAI Pacific cod fisheries. Scale and catch weighing requirements are located at 50 CFR parts 679 and 680.

NMFS has identified three primary objectives for monitoring catch to ensure independent and verifiable data is available for fisheries management. First, monitoring methods must ensure all catch delivered to a processor is weighed and identified to species and provide a verifiable record of the weight and species composition of each delivery. Second, all catch must be weighed using NMFS-approved scales to determine the weight of the catch and provide a record of that weight. Third, monitoring systems, such as video, must be in place to ensure that all catch is accounted for.

Shoreside processors participating in catch share programs have many of the same catch accounting and monitoring goals, but two differences require unique monitoring tools to obtain precise and verifiable catch amounts for quota management. First, shoreside processors vary more in size, facilities, and layout than do catcher/processors or motherships. Second, the State of Alaska is responsible for approving scales used for trade by shoreside processors and has developed an effective program for their inspection and approval.

Because of the wide variations in factory layout, a performance-based catch monitoring system is more appropriate for shoreside processors than a type approval process used for at-sea scales. CMCPs (Catch Monitoring and Control Plans) and CMPs (Crab Monitoring Plans) are submitted by the representative from the shoreside processor and approved by NMFS. CMCPs and CMPs detail a series of performance based standards set out in regulation that ensure that all delivered catch can be effectively monitored by NMFS-authorized personnel, that NMFS-authorized personnel can effectively conduct their monitoring duties, and that all catch is accurately sorted and weighed by species.

Vessels that participate in halibut deck sorting are required to comply with additional monitoring and equipment requirements such as the installation of an observer sampling station on deck and video monitoring requirements. These additional measures are necessary to ensure accurate accounting of halibut sorted on the deck of participating vessels.

II. Method of Collection

Respondents have a choice of either electronic or paper forms. Methods of submittal include email, online, mail, and fax. Daily flow scale and hopper scale tests are reported using an electronic logbook. Printed reports are generated automatically by software. Video monitoring systems record and store video data automatically.

III. Data

OMB Control Number: 0648-0330.

Form Number(s): None.

Type of Review: Regular submission (extension of a current information collection).

Affected Public: Business or other for-profit organizations.

Estimated Number of Respondents: 94.

Estimated Time per Response:

Scale Type Evaluation: 50 hours.

Installation & Maintenance: At-Sea Scales (Maintenance only)—1 minute; Video Monitoring Systems (non-halibut deck sorting)—1 minute; Video Monitoring Systems (halibut—initial year)—12 hours; Observer Deck Sampling Stations (initial year)—12 hours; annual renewal—1 minute;

Inspection Request: 8 minutes.

Daily Scale Test: Notify Observer of Tests—2 minutes; Record of Flow Scale Test—30 minutes; Record of Hopper Scale Test—15 minutes.

Printed Report—Flow Scale: Catch & Cumulative Weight, Audit Trail, Calibration Log, and Fault Log—1 minute each.

Printed Report—Hopper Scale: Catch Weight and Audit Trail—1 minute each.

Video Monitoring: 2 hours.

Notification of Pacific Cod Monitoring Option: 10 minutes.

Catch Monitoring and Control Plan (CMCP): Annual Submission—40 hours; CMCP Addendum—8 hours; Printed Record from Scale—1 minute; Notify Observer—1 minute.

Crab Monitoring Plan (CMP): Annual Submission—16 hours; CMP Addendum—8 hours; Printed Records from Scale—1 minute.

Estimated Total Annual Burden Hours: 10,086 hours.

Estimated Total Annual Cost to Public: $812,371 in recordkeeping and reporting costs.

Respondent's Obligation: Mandatory; Required to Obtain or Retain Benefits.

Legal Authority: 16 U.S.C. 1801 et seq.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-13029 Filed 6-16-20; 8:45 am]

BILLING CODE 3510-22-P